MERIT SYSTEMS PROTECTION BOARD

Agency Information Collection Activities; Proposed Collection

AGENCY: Merit Systems Protection Board.

ACTION: Notice.

SUMMARY: The U.S. Merit Systems Protection Board is requesting approval from the Office of Management and Budget (OMB) to conduct Federal employee surveys for a period of two years from the approval date. Before submitting the Information Collection Request (ICR) to OMB for review and approval, MSPB is soliciting comments on specific aspects of the information collection in accordance with the Paperwork Reduction Act of 1995 (44 U.S.C. 3506(c)(2)(A)). In this regard, we are soliciting comments on the public reporting burden. The reporting burden for the collection of information on this form is estimated to average 30 minutes per respondent, including time for reviewing instructions and completing the survey. In addition, the MSPB invites comments on (1) Whether the proposed collection of information is necessary for the proper performance of MSPB's functions, including whether the information will have practical utility; (2) the accuracy of MSPB's estimate of burden of the proposed collection of information, including the validity of the methodology and assumptions used; (3) ways to enhance the quality, utility, and clarity of the information to be collected; and (4) ways to minimize the burden of the collection of information on respondents, including through the use of automated collection techniques, when appropriate, and other forms of information technology.

DATES: According to the procedures prescribed in 5 CFR 1320.10, MSPB plans to submit an ICR to OMB for review and approval following the 60-day comment period. Comments must be received on or before April 30, 2008.

ADDRESSES: You may submit comments via any of the following methods: E-mail: sharon.roth@mspb.gov. Please include “Disciplinary Action Surveys” in the subject line of the message. Fax: (202) 653-7211. Mail: Sharon Roth, U.S. Merit Systems Protection Board, Room 515, 1615 M St., NW., Washington, DC 20419.

FOR FURTHER INFORMATION CONTACT: For information on this survey, contact Sharon Roth by phone on 202-653-6772, ext. 1340, by FAX on 202-653-7211, or by e-mail sharon.roth@mspb.gov. You may contact Ms. Roth via V/TDD at 1-800-877-8339.

SUPPLEMENTARY INFORMATION: Proposed Project: “Disciplinary Process within Agencies.”

As part of its statutory mission, MSPB is responsible for conducting studies of the Federal civil service to ensure that all Federal government agencies follow merit systems practices and avoid prohibited personnel practices. To support this research agenda, MSPB periodically conducts surveys of samples of Federal employees. To obtain insight into the perspectives of management and management advisors regarding Federal disciplinary processes, MSPB requests approval to conduct a series of three surveys. All will be completed within two years.

The surveys will be sent to (1) proposing officials for discipline, (2) deciding officials for discipline, and (3) human resources advisors on disciplinary actions. The surveys will ask respondents to share their experiences conducting suspensions of 14 days or less and removal actions, including their level of involvement in decisions made, their use of alternative discipline, the nature of the conduct that led to the action, the role of performance in conduct based actions, and the quality of related training they received. Respondents will be selected based upon disciplinary actions recorded in the Central Personnel Data File (CPDF).

Burden Statement: The annual public reporting and record keeping burden for this collection of information is estimated to average 0.50 hours per respondent.

Respondents/Affected Entities: Participants will be randomly drawn from the agencies that conducted the majority of removal actions in Fiscal Year 2007. For each personnel action, there will be three respondents (the proposing official, the deciding official, and the human resources advisor).

Estimated Number of Respondents: 7,500.

Frequency of Response: Once for most respondents. (If a party was involved in implementing multiple disciplinary actions, there is a potential to receive more than one survey.)

Estimated Total Annual Hour Burden: 3,750.

William D. Spencer,
Clerk of the Board.

[FR Doc. E8-4292 Filed 3-5-08; 8:45 am]

BILLING CODE 7400-01-P